DEPARTMENT OF ENERGY

Federal Energy Regulatory Commission

[Docket No. RP01-528-000]

Garden Banks Gas Pipeline, LLC; Notice of Proposed Changes in FERC Gas Tariff

September 17, 2001.

Take notice that on August 31, 2001, Garden Banks Gas Pipeline, LLC (Garden Banks) tendered for filing as part of its FERC Gas Tariff, Original Volume No. 1, the tariff sheets listed below, to become effective October 1, 2001.

Third Revised Sheet No. 306

First Revised Sheet No. 309

First Revised Sheet No. 318

First Revised Sheet No. 319

As more fully set forth in Garden Banks' filing, its purpose is to update the Form of NGL Bank Agreement in Garden Banks' tariff, to reflect the current fee structure, and to provide that the monthly allocations account for the phase changes attributable to both retrograde condensate and any condensate injected into Garden Banks' system.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23544 Filed 9-20-01; 8:45 am]

BILLING CODE 6717-01-P